DEPARTMENT OF HOMELAND SECURITY

Transportation Security Administration

[Docket No. TSA-2005-20118]

Revision of Agency Information Collection Activity Under OMB Review: Maryland Three Airports: Enhanced Security Procedures for Operations at Certain Airports in the Washington, DC, Metropolitan Area Flight Restricted Zone

AGENCY: Transportation Security Administration, DHS.

ACTION: 30-Day notice.

SUMMARY: This notice announces that the Transportation Security Administration (TSA) has forwarded the Information Collection Request (ICR), Office of Management and Budget (OMB) control number 1652-0029, abstracted below to OMB for review and approval of revision of the currently approved collection under the Paperwork Reduction Act (PRA). The ICR describes the nature of the information collection and its expected burden. The collection is necessary to comply with a requirement for individuals to successfully complete a security threat assessment before operating an aircraft to or from the three Maryland airports (Maryland Three Airports) that are located within the Washington, DC, Metropolitan Area Flight Restricted Zone (FRZ), or serving as an airport security coordinator at one of these three airports.

DATES: Send your comments by July 19, 2018. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION: TSA published a Federal Register notice, with a 60-day comment period soliciting comments, of the following collection of information on March 9 2018, 83 FR 10510.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: Maryland Three Airports: Enhanced Security Procedures for Operations at Certain Airports in the Washington, DC, Metropolitan Area Flight Restricted Zone.

Type of Request: Revision of a currently approved collection.

OMB Control Number: 1652-0029.

Forms(s): TSA Form No. 418, MD-3 PIN Application.

Affected Public: Airports and pilots operating an aircraft to or from one of three Maryland airports, and airport employees who serve as an airport security coordinator at one of these three Maryland airports.

Abstract: TSA's regulations set forth security measures that apply to flight operations at the Maryland Three airports (College Park Airport, Potomac Airfield, and Washington Executive/Hyde Field). See 49 CFR part 1562. Under these regulations, the following individuals must provide personal information and fingerprints to TSA to conduct a security threat assessment: (1) Pilots who fly to, from, or between the Maryland Three airports and (2) airport employees who serve as security coordinators at one of these airports. A successfully completed security threat assessment is required for a pilot to fly to or from the Maryland Three airports, or for an airport employee to serve as a security coordinator at one of these airports. TSA is revising the collection by providing an electronic option for the submission of the FAA Flight Standards District Offices vetting information and for final approval of the application.

Number of Respondents: 369.

Estimated Annual Burden Hours: An estimated 2,859.75 hours annually.

Dated: June 13, 2018.
Christina A. Walsh,
TSA Paperwork Reduction Act Officer, Office of Information Technology.

[FR Doc. 2018-13141 Filed 6-18-18; 8:45 am]

BILLING CODE 9110-05-P